DEPARTMENT OF TRANSPORTATION

Maritime Administration

[Docket Number MARAD-2014-0052]

Ship Disposal: Ex-USNS COMET

AGENCY: Maritime Administration, Department of Transportation.

ACTION: Notice: Ship Disposal Request for Comments.

SUMMARY: The Maritime Administration (MARAD) plans to dispose of an obsolete vessel the ex-USNS COMET, which is currently located at its Suisun Bay Reserve Fleet in Benicia, California. This action constitutes an undertaking as defined under Section 106 of the National Historic Preservation Act of 1966 (16 U.S.C. 470 et seq.). Section 106 requires Federal agencies to take into account the effects of their undertakings on historic properties and afford the public a reasonable opportunity to comment. The historic preservation review process mandated by Section 106 is outlined in 36 CFR Part 800 “Protection of Historic Properties” issued by the Advisory Council on Historic Preservation. Pursuant to 32 CFR Part 800.2(d)(2), agencies must provide the public with information about an undertaking and its effects on historic properties and seek public comment and input. If you have comments about the disposal of this vessel, please submit your comments as described in this notice.

DATES: All comments must be received on or before July 22, 2014.

ADDRESSES: You may submit comments identified by DOT Docket Number MARAD-2014-0052 by any of the following methods:

• Federal eRulemaking Portal: http://www.regulations.gov. Search MARAD-2014-0052 and follow the instructions for submitting comments.

• Email: MARAD.History@dot.gov. Include docket number and/or RIN number 2014-0052 in the subject line of the message.

• Mail: Docket Management Facility, U.S. Department of Transportation, 1200 New Jersey Avenue SE., West Building, Room W12-140, Washington, DC 20590. If you would like to know that your comments reached the facility, please enclose a stamped, self-addressed postcard or envelope.

• Hand Delivery/Courier: Docket Management Facility, U.S. Department of Transportation, 1200 New Jersey Avenue SE., West Building, Room W12-140, Washington, DC 20590. The Docket Management Facility is open 9:00 a.m. to 5:00 p.m., Monday through Friday, except on Federal holidays.

Note: If you mail or hand deliver your comment we recommend that you include your name and a mailing address, an email address, or a telephone number in the body of your document so that we can contact you if we have questions regarding your submission. If you submit your comment by mail or hand delivery, submit the comment in an unbound format, no larger than 8½ by 11 inches, suitable for copying and electronic filing.

Instructions: All submissions received must include the agency name and docket number or Regulatory Information Number (RIN) for this rulemaking. All comments received will be posted without change to the docket at www.regulations.gov, including any personal information provided. For detailed instructions on submitting comments and additional information on the rulemaking process, see the section below entitled Public Participation.

FOR FURTHER INFORMATION CONTACT: For more information about the ex-USNS COMET, please visit: http://www.marad.dot.gov/documents/Comet_HAER_Report.pdf; http://www.marad.dot.gov/ships_shipping_landing_page/Ships_History/Comet.htm; and http://www.marad.dot.gov/Assets/html/usns_comet_main.html. You may contact Barbara Voulgaris, Maritime Administration, at (202) 366-0866, for questions relating to this vessel and the National Historic Preservation Act. If you have questions on viewing the Docket, call Cheryl Collins, Program Manager, Docket Operations, telephone: (800) 647-5527.

SUPPLEMENTARY INFORMATION:

Background

MARAD, in consultation with the California State Historic Preservation Officer, determined that the ex-USNS COMET is eligible for listing on the National Register of Historic Places under Criterion c. The ex-USNS COMET is considered to be the first purpose-built oceangoing “roll-on/roll-off” vessel. Roll-on/roll-off, or Ro/Ro, describes how wheeled-vehicular cargo is loaded and unloaded. This method was first developed during WWII for amphibious assault operations using short range landing craft. In the postwar period, the concept was refined and expanded beyond the assault class to include the rapid delivery by ship of vehicles carrying military supplies and equipment that could be immediately driven into forward staging areas. This eventually led to the development of the commercial Ro/Ro trade, particularly for cars and light trucks. The ex-USNS COMET has been nicknamed the “Mother of All Ro/Ros” in honor of its pioneering design.

Public Participation

Your comments must be written and in English. To ensure that your comments are correctly filed in the Docket, please include the docket number in your comments. MARAD encourages you to provide concise comments. However, you may attach necessary additional documents to your comments. There is no limit on the length of the attachments. Please submit your comments, including the attachments, following the instructions provided under the above heading entitled ADDRESSES.

If you wish to submit any information under a claim of confidentiality, you should submit three copies of your complete submission, including the information you claim to be confidential business information, to the U.S. Department of Transportation, Maritime Administration, Office of Legislation and Regulations, MAR-225, W24-220, 1200 New Jersey Avenue SE., Washington, DC 20590. When you send comments containing information claimed to be confidential information, you should include a cover letter setting forth with specificity the basis for any such claim.

MARAD will consider all comments received before the close of business on the comment closing date indicated above under DATES. MARAD will not consider comments received after that date.

For access to the docket to read background documents, including those referenced in this document, or to submit or read comments received, please go to the Docket Management Facility, U.S. Department of Transportation, 1200 New Jersey Avenue SE., West Building, Room W12-140, Washington, DC 20590. The Docket Management Facility is open 9:00 a.m. to 5:00 p.m., Monday through Friday, except on Federal holidays. To review documents, read comments or to submit comments, the docket is also available online at http://www.regulations.gov, keyword search MARAD-2014-0052.

Please note that even after the comment period has closed, MARAD will continue to file relevant information in the Docket as it becomes available. Accordingly, MARAD recommends that you periodically check the Docket for new material.

Privacy Act

Anyone is able to search the electronic form of all comments received into any of our dockets by the name of the individual submitting the comment (or signing the comment, if submitted on behalf of an association, business, labor union, etc.). You may review the DOT Privacy Act system of records notice for the Federal Docket Management System (FDMS) in the Federal Register published on January 17, 2008, (73 FR 3316) at http://edocket.access.gpo.gov/2008/pdf/E8-785.pdf.

Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

Authority: The National Defense Authorization Act for Fiscal Year 2004, § 3512 of Public Law 108-136 and the National Historic Preservation Act, 16 U.S.C. 470 et seq.

By Order of the Maritime Administrator.
Dated: April 1, 2014.
Julie P. Agarwal,
Secretary, Maritime Administration.

[FR Doc. 2014-07673 Filed 4-22-14; 8:45 am]

BILLING CODE 4910-81-P